DEPARTMENT OF TRANSPORTATION

[Docket No. NHTSA-2012-0043]

Reports, Forms, and Recordkeeping Requirements

AGENCY: National Highway Traffic Safety Administration (NHTSA), Department of Transportation (DOT).

ACTION: Request for public comment on proposed collection of information.

SUMMARY: NHTSA invites public comments about our intention to request the Office of Management and Budget (OMB) approval for a new information collection. Before a Federal agency can collect certain information from the public, it must receive approval from the OMB. Under procedures established by the Paperwork Reduction Act of 1995, before seeking OMB approval, Federal agencies must solicit public comment on proposed collections of information, including extensions and reinstatements of previously approved collections. The collection involves recruitment material, participants' eligibility, and debriefing questionnaires. The information to be collected will be used to describe the study sample and gather information about participant experience with experiments related to the Pedestrian Safety Enhancement Act of 2010 (PSEA).

DATES: Written comments should be submitted by June 18, 2012.

ADDRESSES: You may submit comments identified by Docket No. NHTSA-2012-0043 through one of the following methods:

• Federal eRulemaking Portal: Go to http://www.regulations.gov. Follow the instructions for submitting comments on the electronic docket site by clicking on “Help” or “FAQ.”

• Hand Delivery: 1200 New Jersey Avenue SE., West Building Ground Floor, Room W12-140, between 9 a.m. and 5 p.m. Eastern Time, Monday through Friday, except Federal holidays.

• Fax: 202-493-2251.

Regardless of how you submit comments, you should mention the docket number of this document.

You may call the Docket Management Facility at 202-366-9826.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.dot.gov/privacy.html.

Docket: For access to the docket to read background documents or comments received, go to http://www.regulations.gov, or the street address listed above. Follow the online instructions for accessing the dockets.

FOR FURTHER INFORMATION CONTACT: Lisandra Garay-Vega, 202-366-1412, Vehicle Safety Research, National Highway Traffic Safety Administration, U.S. Department of Transportation, 1200 New Jersey Avenue SE., Washington, DC 20590.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. permitting electronic submission of responses.

In compliance with these requirements, NHTSA asks for public comments on the following proposed collection of information for which the agency is seeking approval from OMB:

OMB Control Number: Not assigned.

Title: Recruitment and debriefing of human subjects for observational experiments to test auditory perception of vehicle sounds.

Form Numbers: None.

Type of Review: New Information Collection.

Abstract: The Pedestrian Safety Enhancement Act of 2010 (PSEA) requires NHTSA to conduct a rulemaking to establish a Federal Motor Vehicle Safety Standard (FMVSS) requiring an alert sound for pedestrians to be emitted by electric vehicles or hybrid vehicles (EVs and HVs). The goal is to establish performance requirements for an alert sound that allows blind and other pedestrians to reasonably detect a nearby EV or HV.

Human factors observational experiments in a laboratory setting are proposed to examine participants' response to different sound characteristics. The Volpe National Transportation Systems Center (Volpe Center), which is an element of the U.S. Department of Transportation (U.S. DOT), Research and Innovative Technology Administration (RITA), would conduct this research under an Inter-Agency Agreement (IAA) with the NHTSA. The collection of information consists of: (1) Recruitment material and eligibility questionnaire, and (2) debriefing questionnaire. Information would be used to verify eligibility, to describe the study sample, and to gather information about participant experience with the experiment. Information to be collected includes, for example; age, gender, whether participant considers him/herself an independent traveler and travels regularly; whether the participant is legally blind or sighted; whether the participant self-reported to have normal hearing in both ears without hearing aids; whether they have normal manual dexterity in both hands (for prompt button pressing); and overall experience while participating in the experiment.

Respondents: Legally blind and sighted volunteers to be recruited in the Greater Boston Area, Massachusetts. Researchers would reach out to local organizations that provide services to the local blind community such as the Carroll Center for the Blind, the Perkins School for the Blind, and the Bay State Council of the Blind. Participants would also be recruited among federal employees at the Volpe Center in Cambridge, MA. Participants who are not Volpe Center employees or members of the blind community may also be recruited from the general population within the Greater Boston Area through for example, university bulletin boards and flyers.

Estimated Number of Respondents: 90.

Estimated Number of Responses: One response per person to each of 10-15 questions total.

Estimated Total Annual Burden: 1 minute per question per respondent (15 to 22.5 hours total).

Estimated Frequency: One time.

Public Comments Invited: You are asked to comment on any aspect of this information collection, including (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Tim Johnson,
Chief, Electronic Systems Safety Division, Vehicle Safety Research.

[FR Doc. 2012-9159 Filed 4-16-12; 8:45 am]

BILLING CODE 4910-59-P